DEPARTMENT OF THE INTERIOR

Bureau of Reclamation

Quarterly Status Report of Water Service, Repayment, and Other Water-Related Contract Negotiations

AGENCY: Bureau of Reclamation, Interior.

ACTION: Notice.

SUMMARY: Notice is hereby given of contractual actions that have been proposed to the Bureau of Reclamation (Reclamation) and were pending through December 31, 2007, and contract actions that have been completed or discontinued since the last publication of this notice on November 30, 2007. From the date of this publication, future quarterly notices during this calendar year will be limited to new, modified, discontinued, or completed contract actions. This annual notice should be used as a point of reference to identify changes in future notices. This notice is one of a variety of means used to inform the public about proposed contractual actions for capital recovery and management of project resources and facilities consistent with section 9(f) of the Reclamation Project Act of 1939. Additional announcements of individual contract actions may be published in the Federal Register and in newspapers of general circulation in the areas determined by Reclamation to be affected by the proposed action.

ADDRESSES: The identity of the approving officer and other information pertaining to a specific contract proposal may be obtained by calling or writing the appropriate regional office at the address and telephone number given for each region in the SUPPLEMENTARY INFORMATION section.

FOR FURTHER INFORMATION CONTACT: Michelle Kelly, Contract Services Office, Bureau of Reclamation, PO Box 25007, Denver, Colorado 80225-0007; telephone 303-445-2888.

SUPPLEMENTARY INFORMATION: Consistent with section 9(f) of the Reclamation Project Act of 1939 and the rules and regulations published in 52 FR 11954, April 13, 1987 (43 CFR 426.22), Reclamation will publish notice of proposed or amendatory contract actions for any contract for the delivery of project water for authorized uses in newspapers of general circulation in the affected area at least 60 days prior to contract execution. Announcements may be in the form of news releases, legal notices, official letters, memorandums, or other forms of written material. Meetings, workshops, and/or hearings may also be used, as appropriate, to provide local publicity. The public participation procedures do not apply to proposed contracts for the sale of surplus or interim irrigation water for a term of 1 year or less. Either of the contracting parties may invite the public to observe contract proceedings. All public participation procedures will be coordinated with those involved in complying with the National Environmental Policy Act. Pursuant to the “Final Revised Public Participation Procedures” for water resource-related contract negotiations, published in 47 FR 7763, February 22, 1982, a tabulation is provided of all proposed contractual actions in each of the five Reclamation regions. When contract negotiations are completed, and prior to execution, each proposed contract form must be approved by the Secretary of the Interior, or pursuant to delegated or redelegated authority, the Commissioner of Reclamation or one of the regional directors. In some instances, congressional review and approval of a report, water rate, or other terms and conditions of the contract may be involved.

Public participation in and receipt of comments on contract proposals will be facilitated by adherence to the following procedures:

1. Only persons authorized to act on behalf of the contracting entities may negotiate the terms and conditions of a specific contract proposal.

2. Advance notice of meetings or hearings will be furnished to those parties that have made a timely written request for such notice to the appropriate regional or project office of Reclamation.

3. Written correspondence regarding proposed contracts may be made available to the general public pursuant to the terms and procedures of the Freedom of Information Act, as amended.

4. Written comments on a proposed contract or contract action must be submitted to the appropriate regional officials at the locations and within the time limits set forth in the advance public notices.

5. All written comments received and testimony presented at any public hearings will be reviewed and summarized by the appropriate regional office for use by the contract approving authority.

6. Copies of specific proposed contracts may be obtained from the appropriate regional director or his designated public contact as they become available for review and comment.

7. In the event modifications are made in the form of a proposed contract, the appropriate regional director shall determine whether republication of the notice and/or extension of the comment period is necessary.

Factors considered in making such a determination shall include, but are not limited to (i) the significance of the modification, and (ii) the degree of public interest which has been expressed over the course of the negotiations. At a minimum, the regional director shall furnish revised contracts to all parties who requested the contract in response to the initial public notice.

Definitions of Abbreviations Used in This Document

BCP Boulder Canyon Project.

Reclamation Bureau of Reclamation.

CAP Central Arizona Project.

CVP Central Valley Project.

CRSP Colorado River Storage Project.

FR Federal Register.

IDD Irrigation and Drainage District.

ID Irrigation District.

M&I Municipal and Industrial.

NMISC New Mexico Interstate Stream Commission.

O&M Operation and Maintenance.

P-SMBP Pick-Sloan Missouri Basin Program.

PPR Present Perfected Right.

RRA Reclamation Reform Act of 1982.

SOD Safety of Dams.

SRPA Small Reclamation Projects Act of 1956.

USACE U.S. Army Corps of Engineers.

WD Water District.

Pacific Northwest Region: Bureau of Reclamation, 1150 North Curtis Road, Suite 100, Boise, Idaho 83706-1234, telephone 208-378-5344.

1. Irrigation, M&I, and miscellaneous water users; Idaho, Oregon, Washington, Montana, and Wyoming: Temporary or interim water service contracts for irrigation, M&I, or miscellaneous use to provide up to 10,000 acre-feet of water annually for terms of up to 5 years; long-term contracts for similar service for up to 1,000 acre-feet of water annually.

2. Rogue River Basin Water Users, Rogue River Basin Project, Oregon: Water service contracts; $8 per acre-foot per annum.

3. Willamette Basin Water Users, Willamette Basin Project, Oregon: Water service contracts; $8 per acre-foot per annum.

4. Pioneer Ditch Company, Boise Project, Idaho; Clark and Edwards Canal and Irrigation Company, Enterprise Canal Company, Ltd., Lenroot Canal Company, Liberty Park Canal Company, Poplar ID, all in the Minidoka Project, Idaho; and Juniper Flat District Improvement Company, Wapinitia Project, Oregon: Amendatory repayment and water service contracts; purpose is to conform to the RRA.

5. Palmer Creek Water District Improvement Company, Willamette Basin Project, Oregon: Irrigation water service contract for approximately 13,000 acre-feet.

6. North Unit ID, Deschutes Project, Oregon: Warren Act contract with cost of service charge to allow for use of project facilities to convey nonproject water.

7. Queener Irrigation Improvement District, Willamette Basin Project, Oregon: Renewal of long-term water service contract to provide up to 2,150 acre-feet of stored water from the Willamette Basin Project (USACE project) for the purpose of irrigation within the district's service area.

8. West Extension ID, Umatilla Project, Oregon: Contract for long-term boundary expansion to include lands outside of federally recognized district boundaries.

9. Greenberry ID, Willamette Basin Project, Oregon: Irrigation water service contract for approximately 7,500 acre-feet of project water.

10. Six water user entities of the Arrowrock Division, Boise Project, Idaho: Repayment agreements with districts with spaceholder contracts for repayment, per legislation, of the reimbursable share of costs to rehabilitate Arrowrock Dam Outlet Gates under the O&M program.

11. Three irrigation water user entities, Boise Project, Idaho: Amendatory repayment contract with New Union Ditch Company to reduce contract by 500 acre-feet of Lucky Peak Reservoir storage space and new contracts with Wilderness Ranch Owners' Association for 200 acre-feet and with Osprey Subdivision Project Owners' Association for 300 acre-feet of Lucky Peak Reservoir storage space.

12. Six irrigation water user entities, Rogue River Basin Project, Oregon: Long-term contracts for exchange of water service with six entities for the provision of up to 2,634 acre-feet of stored water from Applegate Reservoir (USACE project) for irrigation use in exchange for the transfer of out-of-stream water rights from the Little Applegate River to instream flow rights with the State of Oregon for instream flow use.

13. Cowiche Creek Water Users Association and Yakima-Tieton ID, Yakima Project, Washington: Warren Act contract to allow the use of excess capacity in Yakima Project facilities to convey up to 1,583.4 acre-feet of nonproject water for the irrigation of approximately 396 acres of nonproject land.

The following action has been reported as completed since the last publication of this notice on November 30, 2007:

1. (11) Lake Lowell water users, Boise Project, Idaho-Oregon: Repayment contracts for the reimbursable cost of SOD modifications to Deer Flat Dams. The Contracts have been executed.

Mid-Pacific Region: Bureau of Reclamation, 2800 Cottage Way, Sacramento, California 95825-1898, telephone 916-978-5250.

1. Irrigation water districts, individual irrigators, M&I and miscellaneous water users, California, Nevada, and Oregon: Temporary (interim) water service contracts for available project water for irrigation, M&I, or fish and wildlife purposes providing up to 10,000 acre-feet of water annually for terms up to 5 years; temporary Warren Act contracts for use of project facilities for terms up to 1 year; temporary conveyance agreements with the State of California for various purposes; long-term contracts for similar service for up to 1,000 acre-feet annually.

2. Contractors from the American River Division, Cross Valley Canal, San Felipe Division, West San Joaquin Division, and Elk Creek Community Services District, CVP, California: Renewal of 29 long-term water service contracts; water quantities for these contracts total in excess of 2.1M acre-feet. These contract actions will be accomplished through long-term renewal contracts pursuant to Public Law 102-575. Prior to completion of negotiation of long-term renewal contracts, existing interim renewal water service contracts may be renewed through successive interim renewal of contracts. Execution of long-term renewal contracts has been completed for the Friant, Delta, Shasta, and Trinity River Divisions. Long-term renewal contract execution is continuing for the other contractors.

3. Redwood Valley County WD, SRPA, California: Restructuring the repayment schedule pursuant to Public Law 100-516.

4. El Dorado County Water Agency, CVP, California: M&I water service contract to supplement existing water supply: 15,000 acre-feet for El Dorado County Water Agency authorized by Public Law 101-514. The supply would be subcontracted to El Dorado ID and Georgetown Divide Public Utility District.

5. Sutter Extension WD, Delano-Earlimart ID, and the State of California Department of Water Resources, CVP, California: Pursuant to Public Law 102-575, cooperative agreements with non-Federal entities for the purpose of providing funding for CVP refuge water wheeling facility improvements to provide water for refuge and private wetlands.

6. CVP Service Area, California: Temporary water purchase agreements for acquisition of 20,000 to 200,000 acre-feet of water for fish and wildlife purposes as authorized by Public Law 102-575 for terms of up to 3 years.

7. El Dorado ID, CVP, California: Execution of long-term Warren Act contracts for conveyance of nonproject water (one contract for Weber Reservoir and pre-1914 ditch rights in the amount of 3,344 acre-feet, and one contract for Project 184 water in the amount of 11,000 acre-feet). The contracts will allow CVP facilities to be used to deliver nonproject water to El Dorado ID for use within its service area.

8. Horsefly, Klamath, Langell Valley, and Tulelake IDs, Klamath Project, Oregon: Repayment contracts for SOD work on Clear Lake Dam. These districts will share in the repayment of costs, and each district will have a separate contract.

9. Casitas Municipal WD, Ventura Project, California: Repayment contract for SOD work on Casitas Dam.

10. Warren Act Contracts, CVP, California: Execution of long-term Warren Act contracts (up to 25 years) with various entities for conveyance of nonproject water in the Delta Division, the Friant Division, and the San Luis Unit facilities.

11. Tuolumne Utilities District (formerly Tuolumne Regional WD), CVP, California: Long-term water service contract for up to 9,000 acre-feet from New Melones Reservoir, and possibly long-term contract for storage of nonproject water in New Melones Reservoir.

12. Banta Carbona ID, CVP, California: Long-term Warren Act contract for conveyance of nonproject water in the Delta-Mendota Canal.

13. Byron-Bethany ID, CVP, California: Long-term Warren Act contract for conveyance of nonproject water in the Delta-Mendota Canal.

14. Madera-Chowchilla Water and Power Authority, CVP, California: Agreement to transfer the operation, maintenance, and replacement and certain financial and administrative activities related to the Madera Canal and associated works.

15. Montecito WD, Cachuma Project, California: Contract to transfer title of distribution system to the Montecito WD. Title transfer authorized by Public Law 108-315, “Carpinteria and Montecito Water Distribution Conveyance Act of 2004.”

16. Sacramento Suburban WD, CVP, California: Execution of a long-term Warren Act contract for conveyance of nonproject water. The contract will allow CVP facilities to be used to deliver nonproject water provided from the Placer County Water Agency to Sacramento Suburban WD for use within its service area.

17. Truckee Meadows Water Authority, Town of Fernley, State of California, City of Reno, City of Sparks, Washoe County, State of Nevada, Truckee-Carson ID, and any other local interest or Native American Tribal Interest who may have negotiated rights under Public Law 101-618; Nevada and California: Contract for the storage of non-Federal water in Truckee River reservoirs as authorized by Public Law 101-618 and the Preliminary Settlement Agreement. The contracts shall be consistent with the Truckee River Water Quality Settlement Agreement and the terms and conditions of the proposed Truckee River Operating Agreement.

18. San Joaquin Valley National Cemetery, U.S. Department of Veteran Affairs, Delta Division, CVP, California: Renewal of the long-term water service contract for up to 850 acre-feet. The contract was executed on February 28, 2005. The wheeling agreement for conveyance through the California State Aqueduct is pending.

19. A Canal Fish Screens, Klamath Project, Oregon: Negotiation of an O&M contract for the A Canal Fish Screen with Klamath ID.

20. Ady Canal Headgates, Klamath Project, Oregon: Transfer of operational control to Klamath Drainage District of the headgates located at the railroad. Reclamation does not own the land at the headgates, only operational control pursuant to a railroad agreement.

21. Delta Lands Reclamation District No. 770, CVP, California: Long-term Warren Act for conveying nonproject flood flows.

22. Pershing County Water Conservation District, Pershing County, Lander County, and the State of Nevada, Humboldt Project, Nevada: Title transfer to lands and features of the Humboldt Project.

23. PacifiCorp, Klamath Project, Oregon: Execution of long-term agreement for lease of power privilege and the O&M of Link River Dam. This agreement will provide for operations of Link River Dam, coordinated operations with the non-Federal Keno Dam, and provision of power by PacifiCorp for Klamath Project purposes to ensure project water deliveries and to meet ESA requirements.

24. Mendota Wildlife Area, CVP, California: Reimbursement agreement between the California Department of Fish and Game and Reclamation for conveyance service costs to deliver Level 2 water to the Mendota Wildlife Area during infrequent periods when the Mendota Pool is down due to unexpected but needed maintenance. This action is taken pursuant to Public Law 102-575, Title 34, section 3406(d)(1), to meet full Level 2 water needs of the Mendota Wildlife Area.

25. Mercy Springs WD, CVP, California: Proposed partial assignment of 2,825 acre-feet of Mercy Springs WD's CVP supply to San Luis WD for irrigation and M&I use.

26. Oro Loma WD, CVP, California: Proposed partial assignment of 4,000 acre-feet of Oro Loma WD's CVP supply to Westlands WD for irrigation and M&I use.

27. San Luis WD, CVP, California: Proposed partial assignment of 2,400 acre-feet of San Luis WD's CVP supply to Santa Nella County Water District for M&I use.

28. Placer County Water Agency, CVP, California: Proposed exchange agreement under section 14 of the 1939 Act to exchange up to 71,000 acre-feet of Placer County Water Agency's American River Middle Fork Project water for use by Reclamation, for a like amount of Sacramento River for use by Placer County Water Agency.

29. Eighteen contractors in the Klamath Project, Oregon: Amendment of 18 repayment contracts or negotiation of new contracts to allow for recovery of additional capital costs to the Klamath Project. These contract actions will be accomplished through amendments to the existing repayment contracts or negotiation of new contracts.

30. Orland Unit Water User's Association, Orland Project, California: Repayment contract for SOD costs assigned to the irrigation purposes of Stony Gorge Dam.

31. Contract for exchange of water among the United States, San Luis WD, and Meyers Farms Family Trust: The contract will allow for an exchange with Reclamation of previously banked water for a like amount of project water made available to San Luis WD on behalf of Meyers Farms.

32. Goleta WD, Cachuma Project, California: Agreement for title transfer of a federally owned distribution system subject to approved legislation.

33. Cawelo WD and Lindsay-Strathmore ID, CVP, California: Long-term Warren Act contract for conveying nonproject water for a non-CVP contractor.

The following actions have been reported as discontinued or completed since the last publication of this notice on November 30, 2007:

Discontinued Contract Action

1. (39) City of Tracy, Sacramento Municipal Utility District, Santa Clara Valley WD, and San Benito County Water Agency; all CVP; California: Amend existing water service contracts to conform to current Reclamation law. Contracts with Santa Clara and San Benito were executed March 28, 2007. The two remaining contract actions have discontinued.

2. (42) Elk Creek Community Services District, CVP, California: Renewal of long-term water service contract for up to 100 acre-feet for a period of 40 years. This action item has been combined into item No. 2.

Completed Contract Actions

1. (21) Sacramento River Settlement Contracts, CVP, California: Five contracts remain to be executed out of a total of 145 contracts; water quantities for these contracts total 2.2M acre-feet. These contracts will be renewed for a period of 40 years. The contracts reflect agreements to settle disputes over water rights' claims on the Sacramento River. All contracts have been executed.

2. (30) Broadview WD, CVP, California: Proposed assignment of 27,000 acre-feet of Broadview WD's entire CVP supply to Westlands WD for irrigation and M&I use. Contract was executed March 1, 2007.

3. (38) Elk Creek Community Services District, California, CVP: Interim renewal contract for up to 3 years to continue project M&I water service while the Operations Criteria and Plan consultations continue. Contract was executed August 20, 2007.

4. (39) City of Tracy, Sacramento Municipal Utility District, Santa Clara Valley WD, and San Benito County Water Agency; all CVP; California: Amend existing water service contracts to conform to current Reclamation law. Contracts with Santa Clara and San Benito were executed March 28, 2007. The two remaining contract actions have discontinued.

5. (43) Westlands WD, CVP, California: Interim renewal of water service contract (Case No. CV-79-106-EDP) for an initial period of 3 years, with subsequent interim renewal contracts of 2 years pursuant to section 3404(c) of the CVPIA. Contract was executed December 27, 2007.

6. (44) Westlands WD, CVP, California: Interim renewal of water service contract (No. 14-06-200-495A) for an initial period of 3 years, with subsequent interim renewal contracts of 2 years pursuant to section 3404(c) of the CVPIA. Contract was executed December 27, 2007.

7. (49) Sacramento Municipal Utility District, CVP, California: Amendment of existing water service contract to allow for additional points of diversion and assignment of up to 30,000 acre-feet of CVP water to the Sacramento County Water Agency. The amended contract will conform to current Reclamation law. Contract was executed July 12, 2006.

8. (51) Sacramento Area Flood Control Agency, CVP, California: Execution of a long-term operations agreement for flood control operations of Folsom Dam and Reservoir to allow for recovery of costs associated with operating a variable flood control pool of 400,000 to 670,000 acre-feet of water during the flood control season. This agreement is to conform to Federal law. Contract was executed December 6, 2004.

Lower Colorado Region: Bureau of Reclamation, PO Box 61470 (Nevada Highway and Park Street), Boulder City, Nevada 89006-1470, telephone 702-293-8192.

1. Milton and Jean Phillips, BCP, Arizona: Colorado River water delivery contract for 60 acre-feet of Colorado River water per year as recommended by the Arizona Department of Water Resources.

2. John J. Peach, BCP, Arizona: Colorado River water delivery contracts for 456 acre-feet of Colorado River water per year as recommended by the Arizona Department of Water Resources.

3. Salt River Pima-Maricopa Indian Community, CAP, Arizona: O&M contract for its CAP water distribution system.

4. Miscellaneous PPR No. 38, BCP, California: Assign Schroeder's portion of the PPR to Murphy Broadcasting.

5. Gila Project Works, Gila Project, Arizona: Title transfer of facilities and certain lands in the Wellton-Mohawk Division from the United States to the Wellton-Mohawk IDD.

6. Shepard Water Company, Inc., BCP, Arizona: Contract for the annual delivery of 50 acre-feet of fourth-priority water per year for domestic use.

7. All-American Canal, BCP, California: Agreement among Reclamation, Imperial ID, Metropolitan WD, and Coachella Valley WD for the federally funded construction of a reservoir(s) and associated facilities that will improve the regulation and management of Colorado River water.

8. Wellton-Mohawk IDD, BCP, Arizona: Amend contract No. 1-07-30-W0021 to revise the acre-foot amount for delivery of domestic use water to 12,000 acre-feet per calendar year, within the district's current overall Colorado River water entitlement.

9. System Conservation Agreements, BCP, Arizona and California: Develop and execute short-term agreements to implement a demonstration system conservation program to evaluate the feasibility of acquiring water through a voluntary land fallowing program to replace drainage water currently being bypassed to the Cienega de Santa Clara.

10. Chacha AZ, LLC, BCP, Arizona: Contract for 2,100 acre-feet per year of fourth-priority water for agricultural purposes.

11. City of Yuma, BCP, Arizona: Supplemental and amendatory contract to provide for additional point of delivery for a new pump station to be constructed on the Gila Gravity Main Canal, with initial intake capacity of 20 million gallons per day, building up to 40 million gallons per day at full design capacity.

12. Basic Management, Inc., BCP, Nevada: Amend contract to add additional service areas where part of the contractor's entitlement can be used.

13. City of Yuma, BCP, Arizona: Amendment to extend contract to allow for the diversion of water through Yuma Project facilities for an additional term of 10 years.

14. Hopi Tribe, Arizona Game and Fish Commission, BCP, Arizona: Approval of an assignment and transfer of 1,500 acre-feet of fourth-priority water entitlement from the Hopi Tribe to the Commission (MSCP Option).

15. Hopi Tribe, BCP, Arizona: Amend contract to decrease the Hopi Tribe's fourth-priority water entitlement by 1,500 acre-feet per year (MSCP Option).

16. Arizona Game and Fish Commission, BCP, Arizona: Amend contract to increase the Commission's fourth-priority water entitlement by 1,500 acre-feet per year being assigned from the Hopi Tribe (MSCP Option).

17. Mohave County Water Authority, B&F Investment, LLC, Springs del Sol; Domestic Water Improvement District, DII-Emerald Springs; BCP; Arizona: Approval of an assignment and transfer of 300 acre-feet of fourth-priority water entitlement from the Authority to B&F, Springs del Sol, and Emerald Springs.

18. Mohave County Water Authority: Amend contract to decrease the Authority's fourth-priority water entitlement by 300 acre-feet per year (La Paz County Option).

19. Hopi Tribe, B&F Investment, Springs del Sol Domestic Water Improvement District, DII-Emerald Springs; BCP; Arizona: Approval of an assignment and transfer of 300 acre-feet of fourth-priority water entitlement from the Hopi Tribe to B&F, Springs del Sol, and Emerald Springs.

20. Hopi Tribe, BCP, Arizona: Amend contract to decrease Hopi Tribe's fourth-priority water entitlement by 300 acre-feet per year (La Paz County Option).

21. Ehrenberg Improvement Association on behalf of B&F Investment, BCP, Arizona: Amend contract to increase Ehrenberg's fourth-priority water entitlement by 100 acre-feet per year being assigned to B&F from the Mohave County Water Authority (50 acre-feet) and from Hopi Tribe (50 acre-feet).

22. Springs del Sol Domestic Water Improvement District, BCP, Arizona: Enter into a new Section 5 contract with Springs del Sol for 100 acre-feet per year of fourth-priority water being assigned to Springs del Sol from the Mohave County Water Authority (50 acre-feet) and from Hopi Tribe (50 acre-feet).

23. DII-Emerald Springs, BCP, Arizona: Enter into a new Section 5 contract for 400 acre-feet per year of fourth-priority water being assigned to Emerald Springs by the Mohave County Water Authority (200 acre-feet) and by the Hopi Tribe (200 acre-feet).

24. Cibola Valley IDD, BCP, Arizona: Amend contract to decrease the district's fourth-priority water entitlement by 2,700 acre-feet per year that is being assigned from the district to Arizona Recreational Facilities, LLC.

25. Arizona Recreational Facilities, LLC; BCP; Arizona: Enter into a new Section 5 contract with Arizona Recreational Facilities for 2,700 acre-feet per year of fourth-priority Colorado River water that is being assigned to them from the Cibola Valley IDD.

The following actions have been reported as discontinued or completed since the last publication of this notice on November 30, 2007:

Discontinued Contract Action

1. (26) Cibola Valley IDD, BCP, Arizona: Assign 396 acre-feet per year of the District's entitlement to fourth-, fifth-, and sixth-priority water to The Conservation Fund.

Completed Contract Actions

1. (4) Maricopa-Stanfield IDD, CAP, Arizona: Amend distribution system repayment contract No. 4-07-30-W0047 to reschedule repayment pursuant to June 28, 1996, agreement. Contract was executed December 14, 2007.

2. (5) Indian and non-Indian agricultural and M&I water users, CAP, Arizona: New and amendatory contracts for repayment of Federal expenditures for construction of distribution systems. Contract was executed December 14, 2007.

3. (6) Central Arizona IDD, CAP, Arizona: Amend distribution system repayment contract No. 4-07-30-W0048 to modify repayment terms pursuant to final order issued by U.S. Bankruptcy Court, District of Arizona. Contract was executed December 14, 2007.

4. (7) Coachella Valley WD and/or The Metropolitan WD of Southern California, BCP, California: Contract to fund the Department of the Interior's expenses to conserve seepage water from the Coachella Branch of the All-American Canal in accordance with Title II of the San Luis Rey Indian Water Rights Settlement Act, dated November 17, 1988. The contract has been executed.

5. (11) North Gila Valley IDD, Yuma ID, and Yuma Mesa IDD; Yuma Mesa Division, Gila Project; Arizona: Administrative action to amend each district's Colorado River water delivery contract to effectuate a change from a “pooled” water entitlement for the Division to a quantified entitlement for each district. The contracts have been executed.

6. (12) Indian and/or non-Indian M&I users, CAP, Arizona: New or amendatory water service contracts or subcontracts in accordance with an anticipated final record of decision for reallocation of CAP water, as discussed in the Secretary of the Interior's notice published on page 41456 of the FR on July 30, 1999. Contract was executed December 14, 2007.

7. (13) Litchfield Park Service Company, CAP, Arizona: Proposed partial assignments of subcontract for 5,590 acre-feet of CAP M&I water to the Central Arizona Water Conservation District, which is exercising its authority as the Central Arizona Groundwater Replenishment District, and to the cities of Avondale, Carefree, and Goodyear. Contract was executed August 14, 2007.

8. (16) Various irrigation districts, CAP, Arizona: Amend distribution system repayment contracts to provide for partial assumption of debt by the Central Arizona Water Conservation District and the United States upon enactment of Federal legislation providing for resolution of CAP issues. Contract was executed December 14, 2007.

9. (17) Mohave County Water Authority, BCP, Arizona: Amendatory Colorado River water delivery contract to include the delivery of 3,500 acre-feet per year of fourth-priority water and to delete the delivery of 3,500 acre-feet per year of fifth-or sixth-priority water. Contract was executed June 22, 2007.

10. (19) Sunrise Water Company, CAP, Arizona: Proposed assignment of subcontract for 944 acre-feet of CAP M&I water per year to the Central Arizona Water Conservation District, which is exercising its authority as the Central Arizona Groundwater Replenishment District. Contract was executed August 14, 2007.

11. (20) West End Water Company, CAP, Arizona: Proposed assignment of subcontract for 157 acre-feet of CAP M&I water per year to the Central Arizona Water Conservation District, which is exercising its authority as the Central Arizona Groundwater Replenishment District. Contract was executed August 14, 2007.

12. (21) New River Utilities Company, CAP, Arizona: Proposed assignment of subcontract for 1,885 acre-feet of CAP M&I water to the Central Arizona Water Conservation District, which is exercising its authority as the Central Arizona Groundwater Replenishment District. Contract was executed August 14, 2007.

13. (22) Metropolitan WD and others, BCP, Arizona and California: Contract to provide for the recovery by Metropolitan WD of interstate underground storage credits previously placed in underground storage in Arizona by the Central Arizona Water Conservation District under agreements executed in 1992 and 1994, and to document the Arizona Water Banking Authority's responsibility in agreeing to Arizona's forbearance in the use of Colorado River water to permit the Secretary of the Interior to release that quantity of water for diversion and use by Metropolitan WD. Letter agreement was executed December 20, 2006.

14. (25) Arizona Water Settlements Act, CAP, Arizona: Implementation of the contracting requirements of Title I Central Arizona Project Settlement Act of 2004, Title II Gila River Indian Community Water Rights Settlement, Title III Southern Arizona Water Rights Settlement, and Title IV San Carlos Apache Tribe Water Rights Settlement. Contracts were executed December 14, 2007.

15. (27) Mohave County Water Authority, BCP, Arizona: Amend contract No. 04-XX-30-W0431 to provide for a change of type and place of use of water. Contract was executed July 6, 2007.

16. (34) Mohave County Water Authority, BCP, Arizona: Assign a portion of Mohave County's Colorado River water entitlement to the Arizona Game and Fish Commission. Contract was executed September 25, 2007.

Upper Colorado Region: Bureau of Reclamation, 125 South State Street, Room 6107, Salt Lake City, Utah 84138-1102, telephone 801-524-3864.

1. Individual irrigators, M&I, and miscellaneous water users; Initial Units, CRSP; Utah, Wyoming, Colorado, and New Mexico: Temporary (interim) water service contracts for surplus project water for irrigation or M&I use to provide up to 10, 000 acre-feet of water annually for terms up to 10 years; long-term contracts for similar service for up to 1,000 acre-feet of water annually.

(a) Camp Id-Ra-Ha-Je West Association, Aspinall Storage Unit, CRSP: Camp Id-Ra-Ha-Je West Association has requested a 40-year water service contract for 1 acre-foot of M&I water out of Blue Mesa Reservoir, which requires Camp Id-Ra-Ha-Je West Association to present a Plan of Augmentation to the Division 4 Water Court.

(b) Maureen A. Call, Aspinall Storage Unit, CRSP: Ms. Call has requested a 40-year water service contract for 1 acre-foot of M&I water out of Blue Mesa Reservoir, which requires Ms. Call to present a Plan of Augmentation to the Division 4 Water Court.

(c) Vanessa Rueckert (Hidden Mesa Estates), Aspinall Storage Unit, CRSP: Ms. Rueckert has requested a 40-year water service contract for 1 acre-foot of M&I water out of Blue Mesa Reservoir, which requires Ms. Rueckert to present a Plan of Augmentation to the Division 4 Water Court.

(d) Thomas Alan Kay (North Fork Reserve), Aspinall Storage Unit, CRSP: Mr. Kay has requested a 40-year water service contract for 11 acre-feet of M&I water out of Blue Mesa Reservoir, which requires them to present a Plan of Augmentation to the Division 4 Water Court.

2. San Juan-Chama Project, New Mexico: The United States is holding the remaining 2,990 acre-feet of project water for potential use in Indian water rights settlements in New Mexico.

3. Various Contactors, San Juan-Chama Project, New Mexico: The United States proposes to lease water from various contractors to stabilize flows in a critical reach of the Rio Grande in order to meet the needs of irrigators and preserve habitat for the silvery minnow.

4. Uncompahgre Valley Water Users Association, Upper Gunnison River Water Conservancy District, and the Colorado River Water Conservation District; Uncompahgre Project; Colorado: Water management agreement for water stored at Taylor Park Reservoir and the Wayne N. Aspinall Storage Units to improve water management.

5. Southern Ute Indian Tribe, Florida Project, Colorado: Supplement to contract No. 14-06-400-3038, dated May 7, 1963, for an additional 181 acre-feet of project water, plus 563 acre-feet of project water pursuant to the 1986 Colorado Ute Indian Water Rights Final Settlement Agreement.

6. Individual Irrigators, Carlsbad Project, New Mexico: The United States proposes to enter into long-term forbearance lease agreements with individuals who have privately held water rights to divert nonproject water either directly from the Pecos River or from shallow/artesian wells in the Pecos River Watershed. This action will result in additional water in the Pecos River to make up for the water depletions caused by changes in operations at Sumner Dam which were made to improve conditions for a threatened species, the Pecos bluntnose shiner.

7. La Plata Conservancy District, Animas-La Plata Project, New Mexico: Cost-sharing/repayment contract for up to 1,560 acre-feet per year of M&I water; contract terms to be consistent with the Colorado Ute Settlement Act Amendments of 2000 (Title III of Pub. L. 106-554).

8. LeChee Chapter of the Navajo Nation, Glen Canyon Unit, CRSP, Arizona: Long-term contract for 950 acre-feet of water for municipal purposes.

9. City of Page, Arizona, Glen Canyon Unit, CRSP, Arizona: Long-term contract for 975 acre-feet of water for municipal purposes.

10. El Paso County Water Improvement District No. 1 and Isleta del Sur Pueblo, Rio Grande Project, Texas: Contract to convert up to 1,000 acre-feet of the Pueblo's project irrigation water to use for tradition and religious purposes.

11. Project Operator, Animas-La Plata Project, Colorado: Contract to transfer the operation, maintenance, and replacement responsibilities of most project facilities to the project operator, pursuant to section 6 of the Reclamation Act of June 17, 1902 and other Federal reclamation laws.

12. Project Operations Committee, Animas-La Plata Project, Colorado and New Mexico: Agreement among the United States and the project sponsors to coordinate and oversee the necessary operations, maintenance, and replacement activities of the project works.

13. Southern Ute Indian Tribe, Animas-La Plata Project, Colorado: Water delivery contract for 33,519 acre-feet of M&I water; contract terms to be consistent with the Colorado Ute Settlement Act Amendments of 2000 (Title III of Pub. L. 106-554).

14. Ute Mountain Ute Tribe, Animas-La Plata Project, Colorado: Water delivery contract for 33,519 acre-feet of M&I water; contract terms to be consistent with the Colorado Ute Settlement Act Amendments of 2000 (Title III of Pub. L. 106-554).

15. Navajo Nation, Animas-La Plata Project, Colorado and New Mexico: Water delivery contract for 4,680 acre-feet of M&I water; contract terms to be consistent with the Colorado Ute Settlement Act Amendments of 2000 (Title III of Pub. L. 106-554).

16. State of Colorado, Animas-La Plata Project, Colorado and New Mexico: Cost-sharing/repayment contract for up to 10,440 acre-feet per year of M&I water; contract terms to be consistent with the Colorado Ute Settlement Act Amendments of 2000 (Title III of Pub. L. 106-554).

17. Public Service Company of New Mexico, Reclamation, and the U.S. Fish and Wildlife Service; San Juan River Basin Recovery Implementation Program: The agreement identifies that Reclamation may provide cost-share funding for the recovery monitoring and research, and O&M of the constructed fish passage at the Public Service Company's site pursuant to Public Law 106-392, dated October 30, 2000, 114 Stat. 1602.

18. The Grand Valley Water Users Association, Reclamation, and the U.S. Fish and Wildlife Service: Construction and O&M of a fish passage and fish screen facilities at the Grand Valley Diversion Dam and Government Highline Canal Facilities to facilitate recovery of endangered fish species in the Colorado River Basin (October 30, 2000, 114 Stat. 1602, Pub. L. 106-392).

19. Central Utah Project, Utah: Petition for project water among the United States, the Central Utah Water Conservancy District, and the Duchesne County Water Conservancy District for use of 2,500 acre-feet of irrigation water from the Bonneville Unit of the Central Utah Project.

20. Navajo Nation, San Juan River Dineh Water Users, Reclamation, and U.S. Fish and Wildlife Service; San Juan River Basin Recovery Implementation Program: The agreement identifies that Reclamation may provide cost-share funding for the recovery monitoring and research, and O&M of the constructed fish passage at the Hogback Diversion Dam, pursuant to Public Law 106-392 dated October 30, 2000, 114 Stat. 1602.

21. Jensen Unit, Central Utah Project, Utah: The Uintah Water Conservancy District has requested a contract with provision to prepay at a discounted rate the remaining 3,300 acre-feet of unmarketed project M&I water.

22. Warren-Vosburg Ditch Company, Animas-La Plata Project, Colorado and New Mexico: Contract for payment of O&M costs associated with the Warren-Vosburg ditch.

23. Aaron Million, Million Conservation Resource Group, Flaming Gorge Storage Unit, CRSP: Mr. Million has requested a Standby Contract to secure the first right to contract for up to 165,000 acre-feet annually of M&I water service from Flaming Gorge Reservoir for a proposed privately financed and constructed transbasin diversion project.

24. Weber Basin Water Conservancy District, Weber Basin Project, Utah: Contract providing for the district to repay to the United States 15 percent of the cost of Phase I SOD modifications to the foundation at Arthur V. Watkins Dam.

25. Weber Basin Water Conservancy District, Weber Basin Project, Utah: Contract providing for the district to repay to the United States 15 percent of the cost of Phase II SOD modifications to the foundation at Arthur V. Watkins Dam.

26. Cottonwood Creek Consolidated Company, Emery County Project, Utah: Cottonwood Creek Consolidated Irrigation Company has requested a contract for carriage of up to 5,600 acre-feet of nonproject water through Cottonwood Creek-Huntington Canal.

27. Albuquerque Bernalillo County Water Utility Authority and Reclamation, San Juan-Chama Project, New Mexico: Contract to store up to 50,000 acre-feet of project water in Elephant Butte Reservoir. The proposed contract would have a 40-year maximum term and would replace existing contract No. 3-CS-53-01510 which expires on January 26, 2008. The Act of December 29, 1981, Public Law. 97-140, 95 Stat. 1717 provides authority to enter into this contract.

28. Dolores Water Conservancy District, Dolores Project, Colorado: The District has requested a water service contract for 1,402 acre-feet of newly identified project water for irrigation. The proposed water service contract will provide 417 acre-feet of project water for irrigation of the Ute Enterprise and 985 acre-feet for use by the District's full-service irrigators.

29. Carlsbad ID and New Mexico Interstate Stream Commission, Carlsbad Project, New Mexico: Contract, for a 5-year term, for the District to perform phreatophyte (Salt Cedar) control and for the Commission to provide annual funding of $150,000.

The following actions have been reported as discontinued or completed since the last publication of this notice on November 30, 2007:

Discontinued Contract Action

1. (18) Carlsbad ID and the NMISC, Carlsbad Project, New Mexico: Contract for storage and delivery of water produced by the NMISC's River Augmentation Program, among Reclamation, Carlsbad ID, and the NMISC. This will allow for storage of NMISC water in project facilities resulting in additional project water supply.

Completed Contract Actions

1. (1)(e) Old Castle SW Group dba United Companies, Aspinall Storage Unit, CRSP: United Companies has requested a 40-year water service contract for 5 acre-feet of M&I water out of Blue Mesa Reservoir, which requires United Companies to present a Plan of Augmentation to the Division 4 Water Court. Contract was executed September 24, 2007.

2. (1)(f) Ward Creek LLC, Aspinall Storage Unit, CRSP: Ward Creek LLC has requested a 40-year water service contract for 1 acre-foot of M&I water out of the Blue Mesa Reservoir, which requires Ward Creek LLC to present a Plan of Augmentation to the Division 4 Water Court. Contract was executed October 9, 2007.

3. (27) North Fork Water Conservancy District and Ragged Mountain Water Users Association, Paonia Project, Colorado: North Fork and Ragged Mountain have requested a contract for supplemental water from the Paonia Project. This contract is for municipal uses. Contract was executed May 21, 2007.

Great Plains Region: Bureau of Reclamation, P.O. Box 36900, Federal Building, 316 North 26th Street, Billings, Montana 59101, telephone 406-247-7752.

1. Individual irrigators, M&I, and miscellaneous water users; Colorado, Kansas, Montana, Nebraska, North Dakota, Oklahoma, South Dakota, Texas, and Wyoming: Temporary (interim) water service contracts for the sale, conveyance, storage, and exchange of surplus project water and nonproject water for irrigation or M&I use to provide up to 10,000 acre-feet of water annually for a term of up to 1 year.

2. Green Mountain Reservoir, Colorado-Big Thompson Project, Colorado: Water service contracts for irrigation and M&I; contracts for the sale of water from the marketable yield to water users within the Colorado River Basin of western Colorado.

3. Ruedi Reservoir, Fryingpan-Arkansas Project, Colorado: Second round water sales from the regulatory capacity of Ruedi Reservoir. Water service and repayment contracts for up to 17,000 acre-feet annually for M&I use.

4. Garrison Diversion Unit, P-SMBP, North Dakota: Renegotiation of the master repayment contract with Garrison Diversion Conservancy District to conform with the Dakota Water Resources Act of 2000; negotiation of repayment contracts with irrigators and M&I users.

5. Highland-Hanover ID, Hanover-Bluff Unit, P-SMBP, Wyoming: Negotiate long-term water service contract.

6. Upper Bluff ID, Hanover-Bluff Unit, P-SMBP, Wyoming: Negotiate long-term water service contract.

7. Dickinson-Heart River Mutual Aid Corporation, Dickinson Unit, P-SMBP, North Dakota: Negotiate renewal of water service contract for irrigation of lands below Dickinson Dam in western North Dakota.

8. Savage ID, P-SMBP, Montana: The District is currently seeking title transfer. The contract is subject to renewal pending outcome of the title transfer process. The existing interim contract is due to expire in May 2008. Preparing to renew a long term contract upon request by the District.

9. Dickinson Parks and Recreation District, Dickinson Unit, P-SMBP, North Dakota: A temporary contract has been negotiated with the District for minor amounts of water from Dickinson Reservoir. Negotiate a long-term water service contract for minor amounts of water from Dickinson Dam.

10. Fryingpan-Arkansas Project, Colorado: Consideration of excess capacity contracts in the Fryingpan-Arkansas Project.

11. Fryingpan-Arkansas Project, Colorado: Consideration of requests for long-term contracts for the use of excess capacity in the Fryingpan-Arkansas Project from the Southeastern Colorado Water Conservancy District, the City of Aurora, and the Colorado Springs Utilities. The contract with the City of Aurora was executed on September 12, 2007.

12. Individual irrigators, Heart Butte Unit, P-SMBP, North Dakota: Renew long-term water service contracts for minor amounts of less than 1,000 acre-feet of irrigation water annually from the Heart River below Heart Butte Dam.

13. Municipal Subdistrict of the Northern Colorado Water Conservancy District, Colorado-Big Thompson Project, Colorado: Consideration of a new long-term contract or amendment of contract No. 4-07-70-W0107 with the Municipal Subdistrict and the Northern Colorado Water Conservancy District for the proposed Windy Gap Firming Project.

14. Northern Integrated Supply Project, Colorado-Big Thompson Project, Colorado: Consideration of a new long-term contract with approximately 14 regional water suppliers and the Northern Colorado Water Conservancy District for the Northern Integrated Supply Project.

15. Stutsman County Park Board, Jamestown Unit, P-SMBP, North Dakota: The Board is requesting a contract for minor amounts of water under a long-term contract to serve domestic needs for cabin owners at Jamestown Reservoir, North Dakota.

16. Security Water and Sanitation District, Fryingpan-Arkansas Project, Colorado: Consideration of a request for a long-term contract for the use of excess capacity in the Fryingpan-Arkansas Project.

17. City of Fountain, Fryingpan-Arkansas Project, Colorado: Consideration of a request for a long-term contract for the use of excess capacity in the Fryingpan-Arkansas Project.

18. Colorado Springs Utilities, Colorado-Big Thompson Project, Colorado Springs, Colorado: Consideration of a request for a long-term agreement for water substitution and power interference in the Colorado-Big Thompson Project.

19. LeClair-Riverton ID, Boysen Unit, P-SMBP, Wyoming: Contract renewal of long-term water service contract.

20. Riverton Valley ID, Boysen Unit, P-SMBP, Wyoming: Contract renewal of long-term water service contract.

21. ExxonMobil Corporation, Ruedi Reservoir, Fryingpan-Arkansas Project, Colorado: Consideration of ExxonMobil Corporation's request to amend its Ruedi Round I contract to include additional uses for the water.

22. Pueblo West Metropolitan District, Pueblo West, Fryingpan-Arkansas Project, Colorado: Consideration of a request for a long-term contract for the use of excess capacity in the Fryingpan-Arkansas Project.

23. City of Golden, Colorado-Big Thompson Project, Colorado: Consideration of a request for a long-term agreement for power interference in the Colorado-Big Thompson Project.

24. Colorado River Water Conservation District, Ruedi Reservoir, Fryingpan-Arkansas Project, Colorado: Consideration of a request for a second round water sales or repayment contract from the regulatory capacity of Ruedi Reservoir for up to 5,000 acre-feet annually for M&I uses and also providing water to the endangered fish and supplementing in-stream flows.

25. Colorado River Water Conservation District, Colorado-Big Thompson Project, Colorado: Long-term exchange, conveyance, and storage contract to implement the Exhibit B Agreement of the Settlement Agreement on Operating Procedures for Green Mountain Reservoir Concerning Operating Limitations and in Resolution of the Petition Filed August 7, 2003, in Case No. 49-CV-2782 (The United States v. Northern Colorado Water Conservancy District, et al., U.S. District Court for the District of Colorado, Case No. 2782 and Consolidated Case Nos. 5016 and 5017).

26. Colorado River Water Conservation District, Colorado-Big Thompson Project, Colorado: Consideration of a request for a long-term contract for the use of excess capacity for storage and exchange in Green Mountain Reservoir in the Colorado-Big Thompson Project.

27. Glendo Unit, P-SMBP, Wyoming: Contract renewal for long-term water service contracts with Burbank Ditch, New Grattan Ditch Company, Torrington ID, Lucerne Canal and Power Company, and Wright and Murphy Ditch Company.

28. Glendo Unit, P-SMBP, Nebraska: Contract renewal for long-term water service contracts with Bridgeport, Enterprise, and Mitchell IDs, and Central Nebraska Public Power and ID.

29. Glendo Unit, P-SMBP, Wyoming: Contract renewal for long-term water storage contract with Pacificorp.

30. Roger W. Evans (Individual), Boysen Unit, P-SMBP, Wyoming: Renewal of long-term water service contracts.

31. City of Beloit, P-SMBP, Kansas: Contract renewal for M&I contract.

32. Hamlin Construction, Inc., Helena Valley Unit, P-SMBP, Montana: Request for a long-term water service contract for M&I purposes for up to 500 acre-feet per year.

33. Richard Davis, Helena Valley Unit, P-SMBP, Montana: Request for a long-term water service contract for M&I purposes for up to 24 acre-feet per year.

34. Individual Irrigators, Canyon Ferry Unit, P-SMBP, Montana: Replace temporary 1-year contracts with long-term water service contracts for minor amounts of less than 1,000 acre-feet of irrigation water annually from the Missouri River below Canyon Ferry Dam.

35. Individual Irrigators, Lower Marias Unit, P-SMBP, Montana: Execute long-term water service contracts for commercial irrigation from Lake Elwell and the Marias River below Tiber Dam.

36. Turtle Lake ID, Garrison Diversion Unit, North Dakota: Turtle Lake ID has requested a water service contract under the Dakota Water Resources Act of 2000 as part of the Garrison Diversion Unit.

37. Big Horn Canal ID, Boysen Unit, P-SMBP, Wyoming: Big Horn Canal has requested a renewal of their long-term water service contract.

38. Treeline Springs, LLP., Canyon Ferry Unit, P-SMBP, Montana: Request for water service contract for up to 620 acre-feet of water per year for replacement of water for senior water rights.

The following actions have been reported as discontinued or completed since the last publication of this notice on November 30, 2007:

Discontinued Contract Action

1. (33) Individual developer with Angostura Unit, P-SMBP, South Dakota: Negotiate M&I water service contract with developer for up to ten, 10-acre tracts of land within the Angostura ID.

Completed Contract Actions

1. (39) City of Grand Junction, City of Fruita, and Town of Palisade (Municipal Recreation Agreement) Colorado-Big Thompson Project; Colorado: Negotiation of renewal of the Municipal Recreation Agreement to provide historic users pool surplus water from Green Mountain Reservoir for nonconsumptive municipal recreation uses. Contract was executed on August 29, 2007.

2. (43) Greenfields ID, Sun River Project, Montana: Modification of Gibson Dam will be required depending on the outcome of the Corrective Action Study, and will require a contract for repayment of allocable SOD costs. Contract was executed on May 21, 2007.

3. (51) Giant Springs, Inc., Canyon Ferry Unit, P-SMBP, Montana: Request for a long-term contract for up to 5,600 acre-feet of water per year to fulfill the State requirement to replace water used under private rights. Contract was executed December 19, 2007.

Dated: February 1, 2008.
Roseann Gonzales,
Director, Office of Program and Policy Services, Denver Office.

[FR Doc. E8-4089 Filed 3-3-08; 8:45 am]

BILLING CODE 4310-MN-P